DEPARTMENT OF THE INTERIOR

National Park Service

General Management Plan for Lava Beds National Monument Siskiyou and Modoc Counties, California; Notice of Intent To Prepare an Environmental Impact Statement

SUMMARY: Pursuant to the provisions of the National Environmental Policy Act of 1969 (Pub. L. 91-190) and Council on Environmental Quality's implementing regulations (40 CFR 1502.9(c)), the U.S. Department of Interior, National Park Service (NPS), is initiating the scoping phase of the conservation planning and environmental impact analysis process for updating the General Management Plan (GMP) for lava Beds National Monument (Monument). Following the scoping phase and consideration of public concerns and other agency comments, a Draft Environmental Impact Statement for the GMP will be prepared and released for public review. The GMP will address desired conditions for the Monument, uses or treatment needs for resource protection, visitor use and other management goals; it will serve as a “blueprint” to guide future management for the next 15-20 years. The purpose of the scoping outreach efforts is to elicit early public comment regarding issues and concerns, the nature and extent of potential environmental impacts (and as appropriate, mitigation measures), and alternatives which should be addressed in the plan update.

Consistent with NPS Planning Program Standards the updated GMP will: (1) Describe the Monument's purpose, significance, and primary interpretive themes; (2) identify the fundamental resources and values of the Monument, its other important resources and values, and describe the condition of these resources; (3) describe desired conditions for cultural and natural resources and visitor experiences throughout the Monument; (4) develop management zoning to support these desired conditions; (5) develop alternative applications of these management zones to the Monument landscape (i.e., zoning alternatives); (6) address user capacity; (7) analyze potential boundary modifications; (8) ensure that management recommendations are developed in consultation with interested stakeholders and the public and adopted by NPS leadership after an adequate analysis of the benefits, environmental impacts, and economic costs of alternative courses of action; and (9) identify and prioritize subsequent detailed studies, plans and actions that may be needed to implement the updated GMP.

Scoping: Through the outreach activities planned in the scoping phase, the NPS welcomes information and suggestions from the public regarding resource protection, visitor use, and land management. This notice formally initiates the public scoping comment phase for the EIS process for the GMP update. All scoping comments must be postmarked or transmitted not later than September 2, 2006. All written responses should be submitted to the following address: General Management Plan, Lava Beds National Monument, Attn.: Craig Dorman, Superintendent, 1 Indian Well Headquarters, Tulelake, CA 96134. As noted, a key purpose of the scoping process is to elicit early public comment on matters which should be considered in updating the GMP in order to inform the development of the Draft EIS. At this time it is expected that three public meetings will be hosted in towns near the Monument during June 5-8, 2006. Detailed information regarding these meetings will be posted on the GMP Web site (http://parkplanning.nps.gov/labe). All attendees will be given the opportunity to ask questions and provide comments to the planning team. The GMP Web site will provide the most up-to-date information regarding the project, including project description, planning process updates, meeting notices, reports and documents, and useful links associated with the project.

It is the practice of the NPS to make all comments, including names and addresses of respondents who provide that information, available for public review. NPS will make all submissions from organizations or businesses, and from individuals identifying themselves as representatives or officials of organzations or businesses, available for public inspection in their entirety. Individuals may request that the NPS withhold their name and/or address from public disclosure. If you wish to do this, you must state this prominently at the beginning of your comments. Respondents using the Web site can make such a request by checking the box: “keep my contact information private.” NPS will honor such requests to the extent allowable by law, but you should be aware that NPS may still be required to disclose your name and address pursuant to the Freedom of Information Act.

SUPPLEMENTARY INFORMATION:

This unit of the National park System was established in 1925 to protect and interpret volcanic and natural features of scientific interest, and evidence of prehistoric and historic human settlement, use, and conflict. The 46,560 acre Monument covers 10% of the Medicine Lake shield volcano which lies on the margin of the Cascade Range and Great Basin Geologic Provinces. This remote landscape contains outstanding, diverse, abundant and well-preserved lava flows, cinder cones, Maar volcanoes, and other volcanic features associated with the Medicine Lake shield volcano, including one of the largest concentrations of lava tube caves in the continental United States. The Monument's geologic resources provide many opportunities for exploration and research of unique habitats.

The dramatic volcanic landscape served as the setting for the Modoc War (1872-1873) and contains archeological evidence of over 11,000 years of human occupation. The lands are significant to Modoc people as part of their traditional homeland. In addition, the Monument has two designated units of the National Wilderness Preservation System totaling 28,460 acres. Wilderness areas provide a primitive recreation experience for visitors in a volcanic Great Basin landscape, as well as invaluable scientific and educational opportunities as surrounding landscapes and social conditions continue to change.

The Monument is primarily surrounded by public lands. The northern edge is bounded by the Tule Lake National Wildlife Refuge. The western, southern and eastern edges are bounded by the Modoc National Forest. A small area on the northeast corner is bounded by privately owned lands, and a commercial forest products inholding is adjacent to the Monument to the south. Petroglyph Point, a detached unit of the Monument, is surrounded by, or very close to, private lands.

The previous GMP, completed in June 1996, identified needed infrastructure and other improvements. Most of the recommendations in this prior plan have since been implemented, including construction of a research center and a new visitor center. Resource management, interpretation, visitor protection and other GMP components were not addressed in the last plan. New inventories and research have been completed since the last GMP including the discovery of additional caves within the Monument, a macro-invertebrate study, and study of fire effects on exotic plants. Drafts of a Wilderness Plan and a Cave Management Plan have also been completed. Future management direction is needed for staff to address changing patterns of visitor use and for effective and long term management of natural and cultural resources.

Decision Process

Availability of the forthcoming Draft EIS for public review and written comment will be formally announced through the publication of a Notice of Availability in the Federal Register, as well as through local and regional news media, direct mailing to the project mailing list, and via the Internet at http://parkplanning.nps.gov/labe. Following due consideration of all agency and public comment, a Final EIS will be prepared. As a delegated EIS, the official responsible for the final decision on the proposed plan is the Regional Director, Pacific West Region, National Park Service. Subsequently, the official responsible for implementation of the approved plan is the Superintendent, Lava Beds National Monument. It is anticipated that the final plan will be available in winter 2009.

Dated: May 3, 2006.
Jonathan B. Jarvis,
Regional Director, Pacific West Region.

[FR Doc. 06-6074 Filed 7-7-06; 8:45 am]

BILLING CODE 4312-GE-M